DEPARTMENT OF TRANSPORTATION

Federal Aviation Administration

Notice of Intent To Rule on Request To Lease Airport Property for Non-Aeronautical Purpose at the Bradford Regional Airport, Lewis Run, PA

AGENCY: Federal Aviation Administration (FAA) DOT.

ACTION: Notice of request to lease airport property for non-aeronautical purpose.

SUMMARY: The FAA proposes to rule and invite public comment on the lease of land for non-aeronautical purpose at the Bradford Regional Airport, Lewis Run, Pennsylvania under the provision 49 U.P.C. 47125(a).

DATES: Comments must be received on or before May 17, 2013.

ADDRESSES: Comments on this application may be mailed or delivered to the following address:

Thomas Frungillo, Airport Director, Bradford Regional Airport, 212 Airport Drive, Suite E, Lewis Run, Pennsylvania 16738.

and at the FAA Harrisburg Airports District Office:

Lori K. Pagnanelli, Manager, Harrisburg Airports District Office, 3905 Hartzdale Dr., Suite 508, Camp Hill, PA 17011.

FOR FURTHER INFORMATION CONTACT: Charles Trice, Civil Engineer, Harrisburg Airports District Office, location listed above.

The request to lease property may be reviewed in person at this same location.

SUPPLEMENTARY INFORMATION: The FAA invites public comment on the request to lease airport property for non-aeronautical purpose at the Bradford Regional Airport under the provisions of Section 47125(a) of Title 49 U.S.C. On April 9, 2013, the FAA determined that the request to lease airport property for non-aeronautical purpose at the Bradford Regional Airport (BFD), Pennsylvania, submitted by the Bradford Regional Airport Authority (Authority), met the procedural requirements.

The following is a brief overview of the request:

The Authority requests the lease of approximately 0.50 acres of non-aeronautical airport property to the Lafayette Township Sewer Authority (Sewer Authority), Lewis Run, Pennsylvania. The land was acquired without Federal participation. The undeveloped property is located in Lafayette Township, east of Roberts Road and immediately adjacent to and north of Pennsylvania State Route 59. The Sewer Authority is proposing to use the property to construct an extension to the existing Lafayette Township underground sewer system, and connect the extension to an existing sewer line on airport property. As shown on the Airport Layout Plan, the property does not serve an aeronautical purpose and is not needed for airport development. The sewer line will also not interfere with normal airport operations. There will be no proceeds from the lease of the property, however, the airport will receive equal if not greater intangible benefits including: the allocation of two (2) tap-in connections to the sewer line; and the allowance of two (2) Equivalent Dwelling Units, each of which apportion 400 gallons of sewage flow per day into the new system.

Any person may inspect the request by appointment at the FAA office address listed above. Interested persons are invited to comment on the proposed lease. All comments will be considered by the FAA to the extent practicable.

Issued in Camp Hill, Pennsylvania, April 9, 2013.
Lori K. Pagnanelli,
Manager, Harrisburg Airports District Office.

[FR Doc. 2013-08953 Filed 4-16-13; 8:45 am]

BILLING CODE 4910-13-P